DEPARTMENT OF COMMERCE

International Trade Administration

[A-570-846]

Brake Rotors From the People's Republic of China: Final Results of the 2006 Semiannual New Shipper Review

AGENCY: Import Administration, International Trade Administration, Department of Commerce.

SUMMARY: On September 25, 2007, the Department of Commerce (the “Department”) published the preliminary results of the semiannual new shipper review of the antidumping duty order on brake rotors from the People's Republic of China. See Brake Rotors From the People's Republic of China: Preliminary Results of the 2006 Semiannual New Shipper Review, 72 FR 54430 (September 25, 2007) (“Preliminary Results”). The merchandise covered by this review is brake rotors, exported and manufactured by Longkou Qizheng Auto Parts Co., Ltd. (“Qizheng”), as described in the “Scope of the Order” section of this notice. The period of review is April 1, 2006, through October 31, 2006. We invited parties to comment on our Preliminary Results. We received no comments, and no new evidence was placed on the record to cause us to question that determination. Therefore, the final results are unchanged from those presented in the Preliminary Results. The final weighted-average dumping margin for Qizheng is listed below in the section entitled “Final Results of the Review.”

EFFECTIVE DATE: November 28, 2007.

FOR FURTHER INFORMATION CONTACT: Jennifer Moats or Blanche Ziv, AD/CVD Operations, Office 8, Import Administration, International Trade Administration, U.S. Department of Commerce, 14th Street and Constitution Avenue, NW, Washington, DC 20230; telephone: (202) 482-5047 or (202) 482-4207, respectively.

Scope of the Order

The products covered by this order are brake rotors made of gray cast iron, whether finished, semifinished, or unfinished, ranging in diameter from 8 to 16 inches (20.32 to 40.64 centimeters) and in weight from 8 to 45 pounds (3.63 to 20.41 kilograms). The size parameters (weight and dimension) of the brake rotors limit their use to the following types of motor vehicles: automobiles, all-terrain vehicles, vans and recreational vehicles under “one ton and a half,” and light trucks designated as “one ton and a half.”

Finished brake rotors are those that are ready for sale and installation without any further operations. Semi-finished rotors are those on which the surface is not entirely smooth, and have undergone some drilling. Unfinished rotors are those which have undergone some grinding or turning.

These brake rotors are for motor vehicles, and do not contain in the casting a logo of an original equipment manufacturer (“OEM”) which produces vehicles sold in the United States. (e.g., General Motors, Ford, Chrysler, Honda, Toyota, Volvo). Brake rotors covered in this order are not certified by OEM producers of vehicles sold in the United States. The scope also includes composite brake rotors that are made of gray cast iron, which contain a steel plate, but otherwise meet the above criteria. Excluded from the scope of this order are brake rotors made of gray cast iron, whether finished, semifinished, or unfinished, with a diameter less than 8 inches or greater than 16 inches (less than 20.32 centimeters or greater than 40.64 centimeters) and a weight less than 8 pounds or greater than 45 pounds (less than 3.63 kilograms or greater than 20.41 kilograms).¹

¹ On January 17, 2007, the Department determined the brake rotors produced by Federal-Mogul and certified by the Ford Motor Company to be excluded from the scope of the order. See Memorandum from Blanche Ziv, Program Manager, AD/CVD Operations, Office 8, through Wendy J. Frankel, Office Director, AD/CVD Operations, Office 8, to Stephen J. Claeys, Deputy Assistant Secretary for Import Administration, entitled, “Scope Ruling of the Antidumping Duty Order on Brake Rotors from the People's Republic of China; Federal-Mogul Corporation,” dated January 17, 2007.

Brake rotors were classifiable under subheading 8708.39.50.30 of the Harmonized Tariff Schedule of the United States (“HTSUS”) during the period of review.² Although the HTSUS subheading is provided for convenience and customs purposes, the written description of the scope of this order is dispositive.

² As of January 1, 2005, the HTSUS classification for brake rotors (discs) changed from 8708.39.50.10 to 8708.39.50.30. As of January 1, 2007, the HTSUS classification for brake rotors (discs) changed from 8708.39.50.30 to 8708.30.50.30. See HTSUS (2007), available at <www.usitc.gov>.

Final Results of Review

We determine that the following percentage weighted-average margin exists for the period April 1, 2006, through October 31, 2006:

Exporter and Manufacturer | Margin
Longkou Qizheng Auto Parts Co., Ltd. | 0.0 %%

Liquidation

The Department will determine, and U.S. Customs and Border Protection (“CBP”) shall assess, antidumping duties on all appropriate entries. The Department intends to issue assessment instructions to CBP 15 days after the date of publication of these final results of review. We will direct CBP to assess the appropriate assessment rate (0 percent) against the entered customs values for the subject merchandise on each of Qizheng's entries under the relevant order during the POR.

Cash Deposit Requirements

The following cash deposit requirements will be effective upon publication of the final results of this new shipper review for all shipments of the subject merchandise entered, or withdrawn from warehouse, for consumption on or after date of publication, as provided by section 751(a)(2)(C) of the Tariff Act of 1930, as amended (“the Act”): (1) for subject merchandise exported and produced by Qizheng, the cash deposit rate will be zero percent; (2) for subject merchandise exported but not produced by Qizheng, the cash deposit rate will be the PRC-wide rate; (3) the cash deposit rate for PRC exporters who received a separate rate in a prior segment of the proceeding will continue to be the rate assigned in that segment of the proceeding; (4) for all other PRC exporters of subject merchandise which have not been found to be entitled to a separate rate, the cash deposit rate will be the PRC-wide rate of 43.32 percent; and (5) for all non-PRC exporters of subject merchandise, the cash deposit rate will be the rate applicable to the PRC supplier of that exporter. These deposit requirements shall remain in effect until further notice.

Notification to Interested Parties

This notice also serves as a final reminder to importers of their responsibility under 19 CFR 351.402(f)(2) to file a certificate regarding the reimbursement of antidumping duties prior to liquidation of the relevant entry during this review period. Failure to comply with this requirement could result in the Secretary's presumption that reimbursement of the antidumping duties occurred and the subsequent assessment of double antidumping duties.

This notice also serves as a reminder to parties subject to administrative protective orders (“APO”) of their responsibility concerning the return or destruction of proprietary information disclosed under APO in accordance with 19 CFR 351.305. Timely written notification of the return or destruction of APO materials or conversion to judicial protective order is hereby requested. Failure to comply with the regulations and terms of an APO is a violation which is subject to sanction.

This new shipper review and this notice are published in accordance with sections 751(a)(2)(B) and 777(i)(1) of the Act.

Dated: November 21, 2007.
David M. Spooner,
Assistant Secretary for Import Administration.

[FR Doc. E7-23143 Filed 11-27-07; 8:45 am]

BILLING CODE 3510-DS-S